DEPARTMENT OF COMMERCE

International Trade Administration

[C-549-818]

Notice of Rescission of Countervailing Duty Administrative Review: Certain Hot-Rolled Carbon Steel Flat Products from Thailand

AGENCY: Import Administration, International Trade Administration, U.S. Department of Commerce.

SUMMARY: In accordance with 19 CFR 351.213(b), the United States Steel Corporation (“petitioner”) submitted a timely request for an administrative review of the countervailing duty order on certain hot-rolled carbon steel flat products from Thailand for Sahaviriya Steel Industries Public Company Limited (“SSI”), an exporter and producer of subject merchandise. SSI also submitted a timely request for an administrative review. SSI's request for review requested that no review be conducted, or alternatively, if a review is conducted, SSI requested a deferral of administrative review in accordance with 19 CFR 351.213(c). The Department of Commerce (“the Department”) initiated an administrative review of this order covering the period January 1, 2003, through December 31, 2003. See Initiation of Antidumping and Countervailing Duty Administrative Reviews and Request for Revocation in Part, 70 FR 4818 (January 31, 2005) (“Initiation Notice”). We are rescinding this administrative review because all requests have been withdrawn in accordance with 19 CFR 351.213(d)(1).

EFFECTIVE DATE: June 1, 2005.

FOR FURTHER INFORMATION CONTACT: Sean Carey at (202) 482-3964 or Addilyn Chams-Eddine at (202) 482-0648, AD/CVD Operations, Office 6, Import Administration, U.S. Department of Commerce, Room 7866, 14th Street and Constitution Avenue, NW, Washington, DC 20230.

SUPPLEMENTARY INFORMATION:

Background

On December 3, 2001, the Department published a countervailing duty order on certain hot-rolled carbon steel flat products from Thailand. See Notice of Countervailing Duty Orders: Certain Hot-Rolled Carbon Steel Flat Products from Thailand, 66 FR 60197 (December 3, 2001). On December 30, 2004, SSI requested that the Department not conduct an administrative review of the January 1, 2003, through December 31, 2003 period of review (POR). According to SSI, there were no U.S. sales or shipments from Thailand of subject merchandise during the POR, and there was only one entry of subject merchandise during the POR. SSI further requested a deferral of the administrative review if the Department conducts an administrative review based on the one entry during the POR, in order to allow the Court of Appeals for the Federal Circuit to reach its final judgement regarding the U.S. Court of International Trade's de minimis determination in Royal Thai Gov't v. United States, 28 CIT, Slip Op. 04-124 (October 1, 2004).

On January 3, 2005, petitioner requested an administrative review of subject merchandise, produced or exported by SSI during the POR. On January 19, 2005, petitioner submitted an objection to SSI's request for a deferral of the administrative review under section 351.213(c)(ii) of the Department's regulations. Petitioner's objection was timely filed on January 19, 2005, because they had requested a one-day extension for filing the deferral objection on January 18, 2005, since the Department had closed prior to 5:00 p.m. due to an emergency situation which prevented the Department from accepting filings.

In accordance with 19 CFR 351.221(c)(1)(i)), we published a notice of initiation of the review on January 31, 2005. See Initiation Notice. On April 26, 2005, petitioner and SSI withdrew their requests for review.

Rescission of Countervailing Duty Administrative Review

Section 351.213(d)(1) of the Department's regulations provide that the Department will rescind an administrative review if a party that requested a review withdraws the request within 90 days of the date of publication of the notice of initiation of the requested review. Petitioner and SSI were the only parties to request a review and both parties withdrew their request for an administrative review on April 26, 2005, which is within the 90-day deadline. The Department is therefore rescinding this administrative review for the period January 1, 2003, through December 31, 2003, in accordance with 19 CFR 351.213(d)(1). The Department will issue appropriate assessment instructions directly to U.S. Customs and Border Protection (CBP) within 15 days of publication of this notice. The Department will direct CBP to assess countervailing duties for all entries of subject merchandise, including those produced or exported by SSI, at the cash deposit rate in effect on the date of entry for entries made during the period January 1, 2003, through December 31, 2003.

This rescission and notice are issued and published in accordance with 19 CFR 351.213(d)(4) and sections 751(a)(1) and 777(i)(1) of the Tariff Act of 1930, as amended.

Dated: May 25, 2005.
Holly A. Kuga,
Acting Deputy Assistant Secretary for Import Administration.

[FR Doc. E5-2770 Filed 5-31-05; 8:45 am]

BILLING CODE 3510-DS-S